INTERNATIONAL TRADE COMMISSION

[Inv. No. 337-TA-437]

Certain Synchronous Dynamic Random Access Memory Devices and Modules and Products Containing Same; Notice of Decision To Review an Initial Determination Terminating the Investigation Based on Withdrawal of the Complaint

AGENCY: U.S. International Trade Commission.

ACTION: Notice.

SUMMARY: Notice is hereby given that the U.S. International Trade Commission has determined to review an initial determination (ID) (Order No. 1) issued by the presiding administrative law judge (ALJ) terminating the above-captioned investigation based on withdrawal of the complaint by complainant Rambus Inc. The Commission does not wish to receive written submissions from the parties in connection with its review of the ID.

FOR FURTHER INFORMATION CONTACT: Tim Yaworski, Esq., Office of the General Counsel, U.S. International Trade Commission, 500 E Street, SW., Washington, DC 20436, telephone (202) 205-3096. Hearing-impaired persons are advised that information on this matter can be obtained by contacting the Commission's TDD Terminal on 202-205-1810. General information concerning the Commission may also be obtained by accessing its Internet server (http://www.usitc.gov).

SUPPLEMENTARY INFORMATION: The Commission instituted this investigation on October 5, 2000, based on a complaint filed by Rambus Inc. of Mountain View, California. The complaint alleged a violation of section 337 of the Tariff Act of 1930, 19 U.S.C. 1337, based on infringement of claims of three U.S. patents (U.S. Letters patent 6,038,195, U.S. Letters Patent 5,953,263, and U.S. Letters Patent 6,034,918) owned by complainant. The respondents named in the investigation were Hyundai Electronics Industries Co., Ltd. of Korea and Hyundai Electronics America of San Jose, California (collectively “Hyundai”). The investigation was assigned to Administrative Lay Judge Sidney Harris. 65 FR 60684. On October 6, 2000, complainant Rambus moved to withdraw its complaint and terminate the investigation. Rambus' motion was responded to by Hyundai and the Commission investigative attorney (“IA”). On November 8, 2000, the ALJ issued an ID terminating the investigation based on Rambus' withdrawal of its complaint, but with the condition that, if the Commission institutes a subsequent investigation based on a complaint filed by Rambus involving one or more of the same patents, then such investigation should be assigned to the same ALJ, unless exceptional circumstances require assignment to another ALJ. The ALJ found that Rambus had engaged in impermissible judge shopping. Rambus and the IA petitioned for review of the ID.

This action is taken under the authority of section 337 of the Tariff Act of 1930, 19 U.S.C. 1337, and section 210.43(d) of the Commission's Rules of Practice and Procedure, 19 CFR 210.43(d).

Copies of the ID and all other nonconfidential documents filed in connection with this investigation are or will be available for inspection during official business hours (8:45 a.m. to 5:15 p.m.) in the Office of the Secretary, U.S. International Trade Commission, 500 E Street, SW., Washington, DC 20436, telephone 202-205-2000. Copies of these documents may also be downloaded from the Commission's Internet server at http://www/usitc.gov.

By order of the Commission.
Issued: December 13, 2000
Donna R. Koehnke,
Secretary.

[FR Doc. 00-32254 Filed 12-18-00; 8:45 am]

BILLING CODE 7020-02-P